DEPARTMENT OF THE TREASURY

Internal Revenue Service

26 CFR Part 1

[REG-103882-99]

RIN 1545-AX06

Depletion; Treatment of Delay Rental; Hearing Cancellation

AGENCY: Internal Revenue Service (IRS), Treasury.

ACTION: Cancellation of notice of public hearing on proposed rulemaking.

SUMMARY: This document provides notice of cancellation of a public hearing on proposed regulations which contain proposed amendments conforming regulations relating to delay rental to the requirements of section 263A, relating to capitalization and inclusion in inventory of costs of certain expenses.

DATES: The public hearing originally scheduled for Friday, May 26, 2000, at 10 a.m., is canceled.

FOR FURTHER INFORMATION CONTACT: LaNita Van Dyke of the Regulations Unit, Assistant Chief Counsel (Corporate), at (202) 622-7180 (not a toll-free number).

SUPPLEMENTARY INFORMATION: A notice of proposed rulemaking and notice of public hearing that appeared in the Federal Register on February 8, 2000, (65 FR 6090), announced that a public hearing was scheduled for May 26, 2000, at 10 a.m., in room 2615, Internal Revenue Building, 1111 Constitution Avenue, NW., Washington, DC. The subject of the public hearing is proposed regulations under section 612 of the Internal Revenue Code. The deadline for outlines of oral comments and requests to speak expired on May 5, 2000.

The notice of proposed rulemaking and notice of public hearing, instructed those interested in testifying at the public hearing to submit a request to speak and an outline of the topics to be addressed. As of May 17, 2000, no one has requested to speak. Therefore, the public hearing scheduled for May, 26, 2000, is canceled.

Cynthia E. Grigsby,
Chief, Regulations Unit, Assistant Chief Counsel (Corporate).

[FR Doc. 00-12987 Filed 5-23-00; 8:45 am]

BILLING CODE 4830-01-U